DEPARTMENT OF COMMERCE

Foreign-Trade Zones Board

[Order No. 2013]

Reorganization and Expansion of Foreign-Trade Zone 214 Under Alternative Site Framework; Lenoir County, North Carolina

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the North Carolina Department of Transportation, grantee of Foreign-Trade Zone 214, submitted an application to the Board (FTZ Docket B-20-2016, docketed April 13, 2016) for authority to reorganize and expand under the ASF with a service area of the Counties of Pender, New Hanover, Brunswick, Duplin, Columbus, Bladen, Robeson, Beaufort, Pitt, Hyde, Onslow, Jones, Craven, Pamlico, Lenoir, Carteret, Wilson, Edgecombe, Nash, Wayne, Greene and Cumberland, within and adjacent to the Wilmington, Morehead City and Raleigh-Durham Customs and Border Protection ports of entry. FTZ 214's existing Sites 1, 5, 6 (as modified) and 7 would be categorized as magnet sites and Sites 2, 3 and 4 would be categorized as usage-driven sites, and the grantee proposes three additional magnet sites (Sites 8, 9 and 10);

Whereas, notice inviting public comment was given in the Federal Register (81 FR 23456-23457, April 21, 2016) and the application has been processed pursuant to the FTZ Act and the Board's regulations; and,

Whereas, the Board adopts the findings and recommendation of the examiner's report, and finds that the requirements of the FTZ Act and the Board's regulations are satisfied provided that inclusion of Robeson County in the service area is limited to the portion of the county east of Interstate 95 (I-95);

Now, therefore, the Board hereby orders:

The application to reorganize and expand FTZ 214 under the ASF is approved, with the service area described above (i.e., inclusion of Robeson County in the service area is limited to the portion of the county east of I-95), subject to the FTZ Act and the Board's regulations, including Section 400.13, to the Board's standard 2,000-acre activation limit for the zone, to ASF sunset provisions for magnet sites that would terminate authority for Sites 1, 7, 8, 9 and 10 if not activated within five years from the month of approval and for Sites 5 and 6 if not activated within the initial ten years from the month of approval, and to an ASF sunset provision for usage-driven sites that would terminate authority for Sites 2, 3 and 4 if no foreign-status merchandise is admitted for a bona fide customs purpose within three years from the month of approval.

Dated: September 15, 2016.
Paul Piquado,
Assistant Secretary of Commerce for Enforcement and Compliance, Alternate Chairman, Foreign-Trade Zones Board.

[FR Doc. 2016-23700 Filed 9-29-16; 8:45 am]

BILLING CODE 3510-DS-P